DEPARTMENT OF TRANSPORTATION

Pipeline and Hazardous Materials Safety Administration

Pipeline Safety: Request To Modify Special Permit Docket No. PHMSA-2007-29078 Federal Register Docket No. PHMSA-2009-0377

AGENCY: Pipeline and Hazardous Materials Safety Administration (PHMSA); DOT.

ACTION: Notice.

SUMMARY: The Federal pipeline safety laws allow a pipeline operator to request that PHMSA waive compliance with any part of the Federal pipeline safety regulations by granting a special permit to the operator. PHMSA is publishing this notice to indicate that we have received from the Kern River Gas Transmission Company (Kern River), a request for modification of an existing special permit, PHMSA-2007-29078, granted to the company on November 8, 2008. Kern River seeks modification of Condition 35 of the special permit, which concerns the external coating on its gas pipeline. This notice seeks public comment on Kern River's request, including comments on any potential environmental impacts. At the conclusion of the comment period, PHMSA will evaluate Kern River's request to determine whether to modify the special permit or deny the request.

DATES: Submit any comments regarding this special permit modification request by December 17, 2009.

ADDRESSES: Comments should reference the docket number for this special permit and may be submitted in the following ways:

• E-Gov Web Site: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue, SE., Washington, DC 20590.

• Hand Delivery: DOT Docket Management System; U.S. Department of Transportation, Docket Operations, M-30, West Building Ground Floor, Room W12-140, 1200 New Jersey Avenue, SE., Washington, DC 20590 between 9 a.m. and 5 p.m., Monday through Friday, except Federal holidays.

Instructions: Identify the docket number, PHMSA-2007-29078, at the beginning of your comments. If you submit your comments by mail, please submit two copies. To receive confirmation that PHMSA received your comments, include a self-addressed stamped postcard. Internet users may submit comments at http://www.regulations.gov. Note: Comments are posted without changes or edits to http://www.regulations.gov, including any personal information provided.

Privacy Act Statement: Anyone may search the electronic form of all comments received for any of dockets. DOT's complete Privacy Act Statement was published in the Federal Register on April 11, 2000 (65 FR 19477) and is available on http://www.regulations.gov.

FOR FURTHER INFORMATION CONTACT:

General: Kay McIver by telephone at (202) 366-0113; or, e-mail at kay.mciver@dot.gov.

Technical: Steve Nanney by telephone at (713) 272-2855; or, e-mail at steve.nanney@dot.gov.

SUPPLEMENTARY INFORMATION:

I. Background

On August 20, 2007, Kern River petitioned PHMSA for a special permit waiving compliance with 49 CFR, 192.111, 192.201, 192.505 and 192.619, to operate its pipeline system at a design factor of up to 0.80 in Class 1 areas, 0.67 in Class 2 areas and 0.56 in Class 3 areas and compressor stations. Kern River sought this special permit so that it could increase the Maximum Allowable Operating Pressure (MAOP) in its pipeline system. On January 4, 2008, PHMSA posted a notice of the special permit request in the Federal Register (72 FR 6042). We did not receive any comments for or against the special permit request as a result of the notice. On November 6, 2008, PHMSA issued an order granting Kern River a special permit with the conditions and limitations specified in items 1 through 56 and 1 through 5, respectively.

The Kern River Gas Transmission pipeline system originates in Lincoln County, Wyoming, where it receives Rocky Mountain gas. It traverses through southwestern Wyoming, and into Utah and Nevada. It then interconnects with the Mojave Pipeline across the California border in San Bernardino County, California. The special permit applies to approximately 1,310 miles of 36” mainline (A-Line) and loop-line (B-Line) of the Kern River Transmission system. PHMSA has been monitoring compliance with the terms and conditions of the permit since it was granted. On October 5, 2009, Kern River petitioned PHMSA to modify Condition 35 (Coating Assessment) of the special permit, relating to the condition of the external coating on its gas pipeline system. Kern River's petition includes proposed modifications to Condition 35, supporting technical justification and documentation, and a proposal to conduct certain additional work.

II. Comments Invited on Request for Modification

PHMSA has filed Kern River's petition to modify Condition 35 of the special permit in the Federal Docket Management System (DMS). The docket includes the petition, the original special permit, special permit analysis and findings, and other supporting documents provided by Kern River. This information is available at www.regulations.gov under Docket Number PHMSA-2007-29078.

We invite interested persons to participate by reviewing the petition to modify the special permit and by submitting written comments, data or other views. Please include any comments on potential environmental impacts modification of the special permit may have. Before acting on the modification request, PHMSA will evaluate all comments received on or before the comment closing date. Late filed comments will be considered to the extent practicable. We may modify the special permit or deny the request based on the comments we receive.

III. Summary of Modification Request

Existing Condition 35 requires Kern River to evaluate the condition of, and make repairs to the coating on its pipeline system. Pipeline coating is an important means of protecting pipelines from external corrosion damage. Condition 35 requires Kern River to collect and use coating-related data to determine when to conduct pipeline coating surveys and determine the locations of field excavations and repairs of coating. This data should also drive Kern River's future coating remediation procedures and schedules; cathodic protection survey procedures and schedules; operational limits such as compressor station maximum discharge temperatures and pressures; in-line inspection schedules, and anomaly remediation criteria.

Kern River requests modifications of Condition 35 that would permit fewer excavations and repairs at areas where surveys indicate damage to the pipeline coating. Kern River proposes to conduct additional corrosion prevention tasks on the pipeline system in lieu of compliance with the original requirement. Kern River contends that this additional work, combined with the work already required pursuant to existing regulations and other Conditions in the special permit, will mitigate external corrosion risks on the pipeline. Kern River also contends that data collected so far show that, while Kern River does have pipe coating defects, the pipeline corrosion protection system currently in place is adequately protecting the pipeline, and the pipe coating defects examined do not threaten pipeline integrity.

In summary, Kern River requests modifications to Condition 35 in the following three areas:

1. Definition of “Remediation.” Addition of a definition of the word “remediation” drawn from the National Association of Corrosion Engineers (NACE) Recommended Practice 0502-2002, Pipeline External Corrosion Direct Assessment Methodology (NACE RP 0502-2002). Such definition would permit remediation of coating anomalies by means other than coating repair.

2. Excavation. Clarification to require excavation of two damaged coating indications for each classification (minor, moderate and severe), for each survey crew and compressor station discharge section. Further clarification that two excavations for each classification are not required if two are not found, however, in any case at least two excavations must be made in each section. Finally, clarification that excavation of every Alternating Current Voltage Gradient (ACVG) indication is not required on the basis of the definition of “remediation” above.

3. Additional Requirements. Addition of a requirement that Kern River perform certain corrosion prevention work before raising the operating pressure of its pipeline.

Kern River's proposed modifications to Condition 35 are set out below. Underlined text represents proposed new or changed language.

Coating Assessment: To verify the pipeline coating conditions and to remediate any integrity issues, Kern River must perform a DCVG survey or ACVG survey of the following not later than one year after the grant of this special permit.

(a) all piping in the special permit area that has operated above 120 degrees Fahrenheit,

(a) all Class 1 locations with structures within 300 feet of the pipeline,

(b) all Class 2 and all Class 3 locations, and

(c) all HCAs.

A DCVG or ACVG survey and remediation need not be performed if Kern River has performed a DCVG or ACVG and remediation survey of the above and completed the remediation of any integrity issue within the two years prior to the grant of this special permit. Kern River must remediate any damaged coating indications found during these assessments that are classified as moderate (i.e. 15% IR and above for DCVG or 35 dBµV and above for ACVG) or severe based on NACE International Recommended Practice 0502-2002, Pipeline External Corrosion Direct Assessment Methodology, (NACE RP 0502-2002). Remediation as defined herein is the definition from NACE RP 0502-2002, which states “remediation refers to corrective actions taken to mitigate deficiencies in the corrosion protection system.”

A minimum of two coating survey assessment classifications must be excavated, for each classification (minor, moderate and severe), for each survey crew and compressor station discharge section. Two excavations for each classification are not required if two are not found, however, in any case at least two excavations must be made in each section. If factors beyond Kern River's control prevent the completion of the DCVG or ACVG survey and remediation within one year, a DCVG or ACVG survey and remediation must be performed as soon as practicable and a letter justifying the delay and providing the anticipated date of completion must be submitted to the director, PHMSA Western Region not later than one year after the grant of this special permit.

Kern River will complete the following coating and pipe integrity prior to raising the operating pressure under this Special Permit:

A. Kern River will accelerate the in-line inspection of both mainlines between the Salt Lake and Elberta compressor stations and the A Line between the Dry Lake and Goodsprings compressor stations, from 2010 to 2009. Conducting these inspections before the pressure increase will verify the integrity of the system in these high consequence areas and verify that the corrosion protection systems have been functioning properly.

B. Kern River will evaluate historic rectifier current and voltage demands.

C. Kern River will excavate and examine all coating anomalies over 70 dBμV in the 2009 ACVG survey areas. The purpose of the digs is to characterize the nature of the coating holiday and the state of the surroundings with respect to corrosion. In the event that the corrosion protection system is found to be ineffective or active corrosion is identified, a root cause analysis will be developed and the cause mitigated within six months.

D. Kern River has developed a GIS alignment sheet to facilitate the integration of In-Line Inspection (ILI), Close Interval Survey (CIS), ACVG, Alternating Current Current Attenuation (ACCA), depth of cover, elevation, pipe and coating information and foreign crossings with a map band containing aerial photography. The integrated data will be used as the basis for future integrity management decisions.

E. Kern River will assemble and review documentation packages for each excavation and will forward them to PHMSA as completed. These packages will contain the findings of each excavation. Kern River will also summarize and statistically analyze the results of the excavation program.

F. Kern River will conduct a side-by-side comparison of the Spectrum XLI ACVG readings obtained from the original survey with Pipeline Current Mapper (PCM) A-frame ACVG readings obtained for a five-mile section on each of the A-Line and B-Line downstream of the Goodsprings compressor station.

Kern River will implement the seven specific integrity measures enumerated below to ensure that the corrosion protection system is effective. These measures will be performed recognizing the results and findings of conditions that relate to the effectiveness of the corrosion protection system, including Conditions 19, 32, 33, 34, 39, 40 and 41.

The specific integrity measures are:

1. Remote monitoring of rectifiers on line pipe subject to the Special Permit;

2. Evaluation of annual surveys at test point locations;

3. Evaluation of CIS in HCAs as conducted under Special Permit Condition 33 (Verification of Cathodic Protection);

4. Evaluation of surveys for AC/DC interference mitigation plan;

5. Evaluation of data from excavations made for routine maintenance and integrity management work;

6. Evaluation of ILI data; and

7. Integration and evaluation of integrated data from rectifiers, test points, AC/DC interference surveys, CIS in HCAs, ILI and pipe exposures including encroachments.

In the event that corrosion prevention is found to be ineffective or active corrosion is identified, the corrosion will be mitigated. Mitigation will be carried out in accordance with Kern River's Operation & Maintenance (O&M) Manual, which has been updated to fulfill the requirements of Condition 43, Anomaly Evaluation and Repair.

Authority: 49 U.S.C. 60118 (c)(1) and 49 CFR 1.53.

Issued in Washington, DC, on November 11, 2009.
Alan Mayberry,
Director, Engineering and Emergency Support.

[FR Doc. E9-27526 Filed 11-16-09; 8:45 am]

BILLING CODE 4910-60-P